DEPARTMENT OF COMMERCE

National Oceanic and Atmospheric Administration

[I.D. 042704D]

South Atlantic Fishery Management Council; Public Meeting

AGENCY: National Marine Fisheries Service (NMFS), National Oceanic and Atmospheric Administration (NOAA), Commerce.

ACTION: Notice of a public meeting.

SUMMARY: The South Atlantic Fishery Management Council (Council) will hold a meeting of its Scientific and Statistical Committee (SSC) and Biological Sub-Committee in Charleston, SC. See SUPPLEMENTARY INFORMATION.

DATES: The meeting will take place on May 17-19, 2004. The SSC Biological Assessment Sub-Committee will meet from 8:30 a.m. until 5 p.m. on May 17, 2004, and from 8:30 a.m. until 5 p.m. on May 18,2004. The full SSC will meet from 8:30 a.m. until 5 p.m. on May 19, 2004.

ADDRESSES: The meetings will be held at the Town & Country Inn, 2008 Savannah Highway, Charleston, SC 29407; 843/571-1000; FAX 843/766-9444.

Council address: South Atlantic Fishery Management Council, One Southpark Circle, Suite 306, Charleston, SC 29407-4699.

FOR FURTHER INFORMATION CONTACT: Kim Iverson, Public Information Officer; telephone: 843/571-4366 or toll free 866/SAFMC-10; FAX 843/769-4520; email: kim.iverson@safmc.net.

SUPPLEMENTARY INFORMATION: Under the Magnuson-Stevens Fishery Conservation and Management Act (Magnuson-Stevens Act), the SSC is the body responsible for reviewing the Council's scientific materials, including stock assessments. Therefore, the purpose of the SSC Biological Assessment Sub-Committee meeting is to prepare recommendations for presentation to the full Scientific and Statistical Committee addressing recent SEDAR (Southeast Data, Assessment and Review) stock assessments for yellowtail snapper, goliath grouper, hogfish and king mackerel. The SSC Sub-Committee and SSC will provide their determinations on the stock assessments, including the following: certify the assessments are based upon best available data/science and are adequate for management, develop advice on the magnitude and direction of action(s) required, interpret the assessment results and provide clearly understood conclusions, develop guidelines for the Council on assessment needs and resources to complete recommendations, and review the current Southeastern Data Assessment and Review (SEDAR) Process and offer recommendations.

Although non-emergency issues not contained in this agenda may come before this group for discussion, those issues may not be the subject of formal action during this meeting. Action will be restricted to those issues specifically identified in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to the council office (see ADDRESSES) by May 14, 2004.

Dated: April 28, 2004.
Matteo J. Milazzo,
Acting Director, Office of Sustainable Fisheries, National Marine Fisheries Service.

[FR Doc. 04-10075 Filed 5-3-04; 8:45 am]

BILLING CODE 3510-22-S